DEPARTMENT OF HEALTH AND HUMAN SERVICES

Food and Drug Administration

[Docket No. FDA-2004-N-0451] (formerly Docket No. 2004N-0226)

Food and Drug Administration Modernization Act of 1997: Modifications to the List of Recognized Standards, Recognition List Number: 023

AGENCY: Food and Drug Administration, HHS.

ACTION: Notice.

SUMMARY: The Food and Drug Administration (FDA) is announcing a publication containing modifications the agency is making to the list of standards FDA recognizes for use in premarket reviews (FDA recognized consensus standards). This publication, entitled “Modifications to the List of Recognized Standards, Recognition List Number: 023” (Recognition List Number: 023), will assist manufacturers who elect to declare conformity with consensus standards to meet certain requirements for medical devices.

DATES: Submit written or electronic comments concerning this document at any time. See section VII of this document for the effective date of the recognition of standards announced in this document.

ADDRESSES: Submit written requests for single copies of “Modifications to the List of Recognized Standards, Recognition List Number: 023” to the Division of Small Manufacturers, International, and Consumer Assistance, Center for Devices and Radiological Health, Food and Drug Administration, 10903 New Hampshire Ave., Bldg. 66, rm. 4613, Silver Spring, MD 20993-0002. Send two self-addressed adhesive labels to assist that office in processing your requests, or fax your request to 301-847-8149. Submit written comments concerning this document, or recommendations for additional standards for recognition, to the contact person (see FOR FURTHER INFORMATION CONTACT). Submit electronic comments by e-mail: standards@cdrh.fda.gov. This document may also be accessed on FDA's Internet site at http://www.accessdata.fda.gov/scripts/cdrh/cfdocs/cfTopic/cdrhnew.cfm. See section VI of this document for electronic access to the searchable database for the current list of FDA recognized consensus standards, including Recognition List Number: 023 modifications and other standards related information.

FOR FURTHER INFORMATION CONTACT: Carol L. Herman, Center for Devices and Radiological Health, Food and Drug Administration, 10903 New Hampshire Ave., Bldg. 66, rm. 3632, Silver Spring, MD 20993-0002, 301-796-6574.

SUPPLEMENTARY INFORMATION:

I. Background

Section 204 of the Food and Drug Administration Modernization Act of 1997 (FDAMA) (Public Law 105-115) amended section 514 of the Federal Food, Drug, and Cosmetic Act (the act) (21 U.S.C. 360d). Amended section 514 allows FDA to recognize consensus standards developed by international and national organizations for use in satisfying portions of device premarket review submissions or other requirements.

In a notice published in the Federal Register of February 25, 1998 (63 FR 9561), FDA announced the availability of a guidance entitled “Recognition and Use of Consensus Standards.” The notice described how FDA would implement its standard recognition program and provided the initial list of recognized standards.

Modifications to the initial list of recognized standards, as published in the Federal Register, are identified in table 1 of this document.

Table 1.—Previous Publications of Standard Recognition Lists
February 25, 1998 (63 FR 9561) | May 27, 2005 (70 FR 30756)
October 16, 1998 (63 FR 55617) | November 8, 2005 (70 FR 67713)
July 12, 1999 (64 FR 37546) | March 31, 2006 (71 FR 16313)
November 15, 2000 (65 FR 69022) | June 23, 2006 (71 FR 36121)
May 7, 2001 (66 FR 23032) | November 3, 2006 (71 FR 64718)
January 14, 2002 (67 FR 1774) | May 21, 2007 (72 FR 28500)
October 2, 2002 (67 FR 61893) | September 12, 2007 (72 FR 52142)
April 28, 2003 (68 FR 22391) | December 19, 2007 (72 FR 71924)
March 8, 2004 (69 FR 10712) | September 9, 2008 (73 FR 52358)
June 18, 2004 (69 FR 34176) | March, 18, 2009 (74 FR 11586)
October 4, 2004 (69 FR 59240) | September 8, 2009 (74 FR 46203)

These notices describe the addition, withdrawal, and revision of certain standards recognized by FDA. The agency maintains “hypertext markup language (HTML)” and “portable document format (PDF)” versions of the list of “FDA Recognized Consensus Standards.” Both versions are publicly accessible at the agency's Internet site. See section VI of this document for electronic access information. Interested persons should review the supplementary information sheet for the standard to understand fully the extent to which FDA recognizes the standard.

II. Modifications to the List of Recognized Standards, Recognition List Number: 023

FDA is announcing the addition, withdrawal, correction, and revision of certain consensus standards the agency will recognize for use in satisfying premarket reviews and other requirements for devices. FDA will incorporate these modifications in the list of FDA Recognized Consensus Standards in the agency's searchable database. FDA will use the term “Recognition List Number: 023” to identify these current modifications.

In table 2 of this document, FDA describes the following modifications: (1) The withdrawal of standards and their replacement by others; (2) the correction of errors made by FDA in listing previously recognized standards; and (3) the changes to the supplementary information sheets of recognized standards that describe revisions to the applicability of the standards.

In section III of this document, FDA lists modifications the agency is making that involve the initial addition of standards not previously recognized by FDA.

Table 2.—Modifications to the List of Recognized Standards
Old Recognition No. | Replacement Recognition No. | Standard | Change
A. Biocompatibility
2-64 | 2-153 | ANSI/AAMI/ISO 10993-5:2009 Biological Evaluation of Medical Devices—Part 5: Tests for in vitro Cytotoxicity | Withdrawn and replaced with newer version
2-67 | 2-154 | ASTM F756—08 Standard Practice for Assessment of Hemolytic Properties of Materials | Withdrawn and replaced with newer version
2-82 | 2-155 | ASTM F2147-01 (Reapproved 2006) Standard Practice for Guinea Pig: Split Adjuvant and Closed Patch Testing for Contact Allergens | Withdrawn and replaced with newer version
2-87 |  | ISO 10993-10:2002 Biological Evaluation of Medical Devices—Part 10: Tests for Irritation and Delayed-Type Hypersensitivity | Title, Extent of recognition, and Relevant guidance
2-93 |  | ASTM F 763—04 Standard Practice for Short-Term Screening of Implant Materials | Extent of recognition
2-94 |  | ASTM F 981—04 Standard Practice for Assessment of Compatibility of Biomaterials for Surgical Implants with Respect to Effect of Materials on Muscle and Bone | Extent of recognition
2-96 |  | ASTM F 1903—98 (Reapproved 2003) Standard Practice for Testing For Biological Responses to Particles in vitro | Title and Extent of recognition
2-98 |  | ANSI/ AAMI/ ISO 10993-1:2003 Biological Evaluation of Medical Devices—Part 1: Evaluation and Testing | Title, Extent of recognition, and Relevant guidance
2-100 |  | ASTM E 1372—95 (Reapproved 2003) Standard Test Method for Conducting a 90-Day Oral Toxicity Study in Rats | Title and Extent of recognition
2-108 |  | ASTM F 1905—98 (Reapproved 2003) Standard Practice For Selecting Tests for Determining the Propensity of Materials to Cause Immunotoxicity | Title and Extent of recognition
2-114 |  | ASTM F 1877—05 Standard Practice for Characterization of Particles | Extent of recognition
2-115 |  | ASTM F 895—84 (Reapproved 2006) Standard Test Method for Agar Diffusion Cell Culture Screening for Cytotoxicity | Title, Extent of recognition, and Relevant guidance
2-117 |  | ANSI/AAMI/ISO 10993-3:2003 Biological Evaluation of Medical Devices—Part 3: Tests for Genotoxicity, Carcinogenicity, and Reproductive Toxicity | Title, Extent of recognition, and contact person
2-118 |  | ANSI/AAMI/ISO 10993-11:2006 Biological Evaluation of Medical Devices—Part 11: Tests for Systemic Toxicity | Title, Extent of recognition, and Relevant guidance
2-119 |  | ASTM F813-07 Standard Practice for Direct Contact Cell Culture Evaluation of Materials for Medical Devices | Extent of recognition
2-120 |  | ANSI/AAMI/ISO 10993-6:2007 Biological Evaluation of Medical Devices—Part 6: Tests for Local Effects after Implantation | Title and Extent of recognition
2-122 |  | ASTM F 719-81 (Reapproved 2007)e Standard Practice for Testing Biomaterials in Rabbits for Primary Skin Irritation | Title, Extent of recognition, and Relevant guidance
2-123 |  | ASTM F 720-81 (Reapproved 2007) Standard Practice for Testing Guinea Pigs for Contact Allergens: Guinea Pig Maximization Test | Title, Extent of recognition, and Relevant guidance
2-124 |  | ASTM F 750-87 (Reapproved 2007)e Standard Practice for Evaluating Material Extracts by Systemic Injection in the Mouse | Title, Extent of recognition, and Relevant guidance
2-125 |  | ASTM F749-98 (Reapproved 2007)e¹ Standard Practice for Evaluating Material Extracts by Intracutaneous Injection in the Rabbit | Title, Extent of recognition, and Relevant guidance
2-126 |  | ASTM F748-06 Standard Practice for Selecting Generic Biological Test Methods for Materials and Devices | Extent of recognition and Relevant guidance
2-133 |  | ASTM F1408-97 (Reapproved 2008) Standard Practice for Subcutaneous Screening Test for Implant Materials | Extent of recognition
2-134 |  | ASTM F2065-00 (Reapproved 2006) Standard Practice for Testing for Alternative Pathway Complement Activation in Serum by Solid Materials | Extent of recognition
2-135 |  | ANSI/ AAMI/ ISO 10993-12:2007 Biological Evaluation of Medical Devices—Part 12: Sample Preparation and Reference Materials | Title, Extent of recognition, and Relevant guidance
2-136 |  | ASTM E1262-88 (Reapproved 2008) Standard Guide for Performance of Chinese Hamster Ovary Cell/Hypoxanthine Guanine Phosphoribosyl Transferase Gene Mutation Assay | Title, Extent of recognition, and Relevant guidance
2-137 |  | ASTM E1263-97 (Reapproved 2008) Standard Guide for Conduct of Micronucleus Assays in Mammalian Bone Marrow Erythrocytes | Extent of recognition
2-138 |  | ASTM E1280-97 (Reapproved 2008) Standard Guide for Performing the Mouse Lymphoma Assay for Mammalian Cell Mutagenicity | Extent of recognition and Relevant guidance
2-139 |  | ASTM E1397-91 (Reapproved 2008) Standard Practice for the In Vitro Rat Hepatocyte DNA Repair Assay | Extent of recognition
2-140 |  | ASTM E1398-91 (Reapproved 2008) Standard Practice for the In Vivo Rat Hepatocyte DNA Repair Assay | Extent of recognition
2-141 |  | ASTM F1984-99 (Reapproved 2008) Standard Practice for Testing for Whole Complement Activation in Serum by Solid Materials | Extent of recognition, Relevant guidance and Contact person
2-142 |  | ASTM F1983-99 (Reapproved 2008) Standard Practice for Assessment of Compatibility of Absorbable/Resorbable Biomaterials for Implant Applications | Extent of recognition
2-143 |  | ASTM F1904-98 (Reapproved 2008) Standard Practice for Testing the Biological Responses to Particles in vivo | Extent of recognition
2-144 |  | ASTM F619-03 (Reapproved 2008) Standard Practice for Extraction of Medical Plastics | Extent of recognition and Relevant guidance
2-145 |  | ASTM F1439-03 (Reapproved 2008) Standard Guide for Performance of Lifetime Bioassay for the Tumorigenic Potential of Implant Materials | Extent of recognition
2-146 |  | ASTM F2148-07e¹ Standard Practice for Evaluation of Delayed Contact Hypersensitivity Using the Murine Local Lymph Node Assay (LLNA) | Extent of recognition and Relevant guidance
2-147 |  | USP 32-NF26 Biological Tests <87> 2009 Biological Reactivity Test, In Vitro—Direct Contact Test | Extent of recognition and Relevant guidance
2-148 |  | USP 32-NF26 Biological Tests <87> Biological Reactivity Test, In Vitro—Elution Test | Extent of recognition and Relevant guidance
2-149 |  | USP 32-NF26 Biological Tests <88> Biological Reactivity Tests, In Vivo, Procedure—Preparation of Sample | Extent of recognition and Relevant guidance
2-150 |  | USP 32-NF26 Biological Tests <88> Biological Reactivity Tests, In Vivo, Classification of Plastics—Intracutaneous Test | Extent of recognition and Relevant guidance
2-151 |  | USP 32-NF26 Biological Tests <88> Biological Reactivity Tests, In Vivo, Classification of Plastics—Systemic Injection Test | Extent of recognition and Relevant guidance
2-152 |  | ISO 10993-10:2002/Amd.1:2006(E) Biological Evaluation of Medical Devices—Part 10: Tests for Irritation and Delayed-Type Hypersensitivity AMENDMENT 1 | Extent of recognition and Relevant guidance
B. Cardiology
3-2 | 3-72 | ANSI/AAMI EC53:1995/(R) 2008 ECG Cables and Leadwires | Withdrawn and replaced with newer version
3-29 |  | IEC 60601-2-30 (1999-12) Medical Electrical Equipment, Part 2: Particular Requirements for the Safety, Including Essential Performance, of Automatic Cycling Non-Invasive Blood Pressure Monitoring Equipment | Withdrawn
3-45 | 3-73 | ANSI/AAMI/ISO EC57:1998/(R)2008 Testing and Reporting Performance Results of Cardiac Rhythm and ST-Segment Measurement Algorithms | Withdrawn and replaced with newer version
3-49 | 3-74 | ASTM F2079-02 (Reapproved 2008) Standard Test Method for Measuring Intrinsic Elastic Recoil of Balloon-Expandable Stents¹ | Withdrawn and replaced with newer version
3-50 |  | AAMI/ANSI DF2-1996 (Revision of ANSI/AAMI DF2-1989) Cardiac Defibrillator Devices | Withdrawn
3-51 |  | AAMI /ANSI DF-39-1993 Automatic External Defibrillators and Remote-Control Defibrillators | Withdrawn
3-53 | 3-75 | ANSI/AAMI SP10:2002/(R)2008 & ANSI/AAMI SP10:2002/A1:2003/(R)2008 & ANSI/AAMI SP10:2002/A2:2006/(R)2008, ANSI/AAMI SP10:2002/(R)2008 & ANSI/AAMI SP10:2002/A1:2003/(R)2008 & ANSI/AAMI SP10:2002/A2:2006/(R)2008 Manual, Electronic, or Automated Sphygmomanometers | Withdrawn and replaced with newer version
3-63 |  | ISO 11318:2002 Cardiac Defibrillators—Connector Assembly DF-1 for Implantable Defibrillators—Dimensions and Test Requirements | Contact person
3-67 | 3-76 | ASTM F2129-08 Standard Test Method for Conducting Cyclic Potentiodynamic Polarization Measurements to Determine the Corrosion Susceptibility of Small Implant Devices | Withdrawn and replaced with newer version
3-70 |  | AAMI/ANSI SP10:2002/A1:2003—Amendment 1 to ANSI/AAMI SP10:2002 Manual, Electronic, or Automated Sphygmomanometers | Withdrawn
3-71 |  | AAMI/ANSI SP10:2002/A2:2006—Amendment 2 to ANSI/AAMI SP10:2002 Manual, Electronic, or Automated Sphygmomanometers | Withdrawn
C. Dental/ENT
4-78 | 4-180 | ISO 9168:2009 Dentistry—Hose Connectors for Air Driven Dental Handpieces | Withdrawn and replaced with newer version
4-87 |  | ADA/ANSI ADA Specification No. 69 - Dental Ceramic:1999 | Reaffirmation
4-91 |  | ADA/ANSI ADA Specification No. 80 - Dental Material-Determination of Color Stability:2001 | Reaffirmation
4-99 | 4-181 | ISO 4049:2009 Dentistry-Polymer-Based Filling, Restorative and Luting Materials | Withdrawn and replaced with newer version
4-117 |  | ADA/ANSI Specification No. 12 - Denture Base Polymers:2002 | Reaffirmation
4-119 |  | ADA/ANSI Specification No. 82 - Dental Reversible/Irreversible Hydrocolloid Impression Material Systems: 1998/Reaffirmed 2003 | Reaffirmation
4-120 | 4-182 | ISO 10139-2:2009 Dentistry—Soft Lining Materials for Removable Dentures—Part 2: Materials for Long-Term Use | Withdrawn and replaced with newer version
4-160 |  | ANSI/ASA S3.1-1999 (R 2003) Maximum Permissible Ambient Noise Levels for Audiometric Test Rooms | Reaffirmation
4-161 | 4-183 | ANSI/ASA S3.2-2009 Method for Measuring the Intelligibility of Speech Over Communication Systems | Withdrawn and replaced with newer version
4-164 |  | ANSI/ASA S3.7-1995 (R 2003) Method for Coupler Calibration of Earphones | Reaffirmation
4-166 |  | ANSI/ASA S3.20-1995 (R2003) Bioacoustical Terminology | Reaffirmation
4-167 |  | ANSI/ASA S3.21-2004 Methods for Manual Pure-Tone threshold Audiometry | Reaffirmation
4-168 | 4-184 | ANSI/ASA S3.25-2009 Occluded Ear Simulator | Withdrawn and replaced with newer version
4-174 | 4-185 | ANSI/ASA S3.45-2009 Procedures for Testing Basic Vestibular Function | Withdrawn and replaced with newer version
4-176 | 4-186 | ANSI/ASA S12.2-2008 Criteria for Evaluating Room Noise | Withdrawn and replaced with newer version
D. General
5-18 | 5-51 | ASTM D-4332-01 (Reapproved 2006) Standard Practice for Conditioning Containers, Packages, or Packaging Components for Testing | Withdrawn and replaced with newer version
5-29 |  | AAMI/ANSI HE74-2001/ Human Factors Design Process for Medical Devices | Reaffirmation
E. In Vitro Diagnostics
7-35 | 7-205 | CLSI H47-A2 One-Stage Prothrombin Time (PT) Test and Activated Partial Thromboplastin Time (APTT) Test | Withdrawn and replaced with newer version
7-42 | 7-206 | CLSI I/LA20-A2 Analytical Performance Characteristics and Clinical Utility of Immunological Assays for Human Immunoglobulin E (IgE) Antibodies and Defined Allergen Specificities | Withdrawn and replaced with newer version
7-97 | 7-207 | CLSI GP16-A3 Urinalysis | Withdrawn and replaced with newer version
7-187 | 7-208 | CLSI M44-S2 Zone Diameter Interpretive Standards, Corresponding Minimal Inhibitory Concentration (MIC) Interpretive Breakpoints, and Quality Control Limits for Antifungal Disk Diffusion Susceptibility Testing of Yeasts | Withdrawn and replaced with newer version
7-37 |  | NCCLS I/LA06-A Detection and Quantitation of Rubella IgG Antibody: Evaluation and Performance Criteria for Multiple Component Test Products, Specimen Handling, and Use of Test Products in the Clinical Laboratory | Withdrawn
F. Materials
8-104 | 8-189 | ASTM F 1108—04 (Reapproved 2009) Standard Specification for Titanium-6Aluminum-4Vanadium Alloy Castings for Surgical Implants (UNS R56406) | Withdrawn and replaced with newer version
8-145 | 8-190 | ASTM F 90-09 Standard Specification for Wrought Cobalt-20Chromium-15Tungsten-10Nickel Alloy for Surgical Implant Applications (UNS R30605) | Withdrawn and replaced with newer version
G. Physical Medicine
16-19 | 16-162 | ISO 7176-4:2008 Wheelchairs—Part 4: Energy Consumption of Electric Wheelchairs and Scooters for Determination of Theoretical Distance Range | Withdrawn and replaced with newer version
16-20 | 16-163 | ISO 7176-5:2008 Wheelchairs—Part 5: Determination of Dimensions, Mass and Manoeuvring Space | Withdrawn and replaced with newer version
16-23 | 16-164 | ISO 7176-10:2008 Wheelchairs—Part 10: Determination of Obstacle-Climbing Ability of Electrically Powered Wheelchairs | Withdrawn and replaced with newer version
16-26 | 16-165 | ISO 7176-14:2008 Wheelchairs—Part 14 Power and Control Systems for Electrically Powered Wheelchairs and Scooters—Requirements and Test Methods | Withdrawn and replaced with newer version
H. Sterility
14-117 |  | ANSI/AAMI ST35:2003 Handling and Biological Decontamination of Reusable Medical Devices in Health Care Facilities and in Nonclinical Settings | Withdrawn
14-263 | 14-280 | ANSI/AAMI ST79:2006 and A1:2008, A2:2009 (Consolidated Text) Comprehensive Guide to Steam Sterilization and Sterility Assurance in Health Care Facilities | Withdrawn and replaced with newer version
14-256 | 14-286 | ASTM F2095-07e1 Standard Test Methods for Pressure Decay Leak Test for Flexible Packages With and Without Restraining Plates | Withdrawn and replaced with newer version
14-255 | 14-281 | ASTM F17-08 Standard Terminology Relating to Flexible Barrier Packaging¹ | Withdrawn and replaced with newer version
14-245 | 14-282 | ASTM F2338-09 Standard Test Method for Nondestructive Detection of Leaks in Packages by Vacuum Decay Method¹ | Withdrawn and replaced with newer version
14-237 | 14-283 | ASTM F 88/F 88M—09 Standard Test Method for Seal Strength of Flexible Barrier Materials¹ | Withdrawn and replaced with newer version
14-199 | 14-284 | ASTM D4169-08 Standard Practice for Performance Testing of Shipping Containers and Systems¹ | Withdrawn and replaced with newer version
14-228 |  | ANSI/AAMI/ISO 11135-1:2007 Sterilization of Health Care Products - Ethylene oxide - Part 1: Requirements for Development, Validation, and Routine Control of a Sterilization Process for Medical Devices | Guidance
14-70 | 14-285 | ANSI/AAMI/ISO 14161:2009 Sterilization of Health Care Products - Biological Indicators - Guidance for the Selection, Use and Interpretation of Results | Withdrawn and replaced with newer version
I. Tissue Engineering
15-6 | 15-16 | ASTM F2450-09 Standard Guide for Assessing Microstructure of Polymeric Scaffolds for Use in Tissue Engineered Medical Products¹ | Withdrawn and replaced with newer version
15-9 | 15-17 | ASTM F2311-08 Standard Guide for Classification of Therapeutic Skin Substitutes¹ | Withdrawn and replaced with newer version
15-13 | 15-18 | ASTM F2212-09 Standard Guide for Characterization of Type I Collagen as Starting Material for Surgical Implants and Substrates for Tissue Engineered Medical Products (TEMPs)¹ | Withdrawn and replaced with newer version

III. Listing of New Entries

In table 3 of this document, FDA provides the listing of new entries and consensus standards added as modifications to the list of recognized standards under Recognition List Number: 023.

Table 3.—New Entries to the List of Recognized Standards
Recognition No. | Title of Standard | Reference No. & Date
A. Cardiology
3-77 | Active Implantable Medical Devices—Electromagnetic Compatibility—EMC Test Protocols for Implantable Cardiac Pacemakers and Implantable Cardioverter Defibrillators | ANSI/AAMI PC69:2007
B. In Vitro Diagnostics
7-209 | Performance Metrics for Continuous Interstitial Glucose Monitoring | POCT 05-A
C. Orthopedics
11-219 | Standard Specification for Polyetheretherketone (PEEK) Polymers for Surgical Implant Applications | ASTM F 2026-08
D. Physical Medicine
16-166 | Wheelchairs—Requirements and Test Methods for Electromagnetic Compatibility of Electrically Powered Wheelchairs and Scooters, and Battery Chargers | ISO 7176-21:2009
E. Sterility
14-286 | Processing of Reusable Surgical Textiles for Use in Health Care Facilities | ANSI/AAMI ST65:2008

IV. List of Recognized Standards

FDA maintains the agency's current list of FDA recognized consensus standards in a searchable database that may be accessed directly at FDA's Internet site at http://www.accessdata.fda.gov/scripts/cdrh/cfdocs/cfStandards/search.cfm. FDA will incorporate the modifications and minor revisions described in this notice into the database and, upon publication in the Federal Register, this recognition of consensus standards will be effective. FDA will announce additional modifications and minor revisions to the list of recognized consensus standards, as needed, in the Federal Register once a year, or more often, if necessary.

V. Recommendation of Standards for Recognition by FDA

Any person may recommend consensus standards as candidates for recognition under the new provision of section 514 of the act by submitting such recommendations, with reasons for the recommendation, to the contact person (See FOR FURTHER INFORMATION CONTACT). To be properly considered such recommendations should contain, at a minimum, the following information: (1) title of the standard; (2) any reference number and date; (3) name and address of the national or international standards development organization; (4) a proposed list of devices for which a declaration of conformity to this standard should routinely apply; and (5) a brief identification of the testing or performance or other characteristics of the devices that would be addressed by a declaration of conformity.

VI. Electronic Access

You may obtain a copy of “Guidance on the Recognition and Use of Consensus Standards” by using the Internet. CDRH maintains a site on the Internet for easy access to information including text, graphics, and files that you may download to a personal computer with access to the Internet. Updated on a regular basis, the CDRH home page includes the guidance as well as the current list of recognized standards and other standards related documents. After publication in the Federal Register, this notice announcing “Modification to the List of Recognized Standards, Recognition List Number: 023” will be available on the CDRH home page. You may access the CDRH home page at http://www.fda.gov/cdrh.

You may access “Guidance on the Recognition and Use of Consensus Standards,” and the searchable database for “FDA Recognized Consensus Standards” through the hyperlink at http://www.fda.gov/cdrh/stdsprog.html.

This Federal Register document on modifications in FDA's recognition of consensus standards is available at http://www.fda.gov/cdrh/fedregin.html.

VII. Submission of Comments and Effective Date

Interested persons may submit to the contact person (see FOR FURTHER INFORMATION CONTACT) written or electronic comments regarding this document. Two copies of any mailed comments are to be submitted, except that individuals may submit one paper copy. Comments are to be identified with the docket number found in brackets in the heading of this document. FDA will consider any comments received in determining whether to amend the current listing of modifications to the list of recognized standards, Recognition List Number: 023. These modifications to the list or recognized standards are effective upon publication of this notice in the Federal Register.

Dated: April 30, 2010.
Leslie Kux,
Acting Assistant Commissioner for Policy.

[FR Doc. 2010-10562 Filed 5-4-10; 8:45 am]

BILLING CODE 4160-01-S